DEPARTMENT OF COMMERCE

National Oceanic and Atmospheric Administration

DEPARTMENT OF THE INTERIOR

Fish and Wildlife Service

[I.D. 121305B]

Endangered and Threatened Species: Notice of Availability for the Final Recovery Plan for the Gulf of Maine Distinct Population Segment of Atlantic Salmon

AGENCIES: National Marine Fisheries Service, National Oceanic and Atmospheric Administration, Commerce; and United States Fish and Wildlife Service, Interior.

ACTION: Notice of Availability of recovery plan of Atlantic salmon.

SUMMARY: The National Marine Fisheries Service (NMFS) and the United States Fish and Wildlife Service (FWS)(collectively, the Services) announce the availability of the final recovery plan for the Gulf of Maine (GOM) distinct population segment (DPS) of Atlantic salmon (Salmo salar).

ADDRESSES: Requests for a copy of the final recovery plan should be addressed to the Atlantic Salmon Recovery Coordinator, NMFS, Northeast Regional Office, Protected Resources Division, One Blackburn Drive, Gloucester, MA 01930. A copy of the Final Recovery Plan can also be downloaded from the following web address: http://www.nmfs.noaa.gov/pr/recovery.

FOR FURTHER INFORMATION CONTACT: Jessica Pruden, NMFS Atlantic Salmon Recovery Coordinator, (978) 281-9328 extension 6532.

SUPPLEMENTARY INFORMATION: The Endangered Species Act of 1973, as amended, (16 U.S.C. 1531 et seq.) (ESA) requires the development of recovery plans for listed species unless such a plan would not promote the recovery of a particular species. Recovery Plans describe actions considered necessary for the conservation and recovery of listed species, establish criteria for downlisting or delisting such species, and estimate the time and costs required to implement recovery actions. On December 17, 2000, the Services listed the GOM DPS of Atlantic salmon as endangered under the ESA (65 FR 69459). On June 18, 2004, the Services published a draft recovery plan for the DPS, and solicited public comments (69 FR 34184).

The GOM DPS includes all naturally reproducing remnant populations of Atlantic salmon from the Kennebec River downstream of the former Edwards Dam site, northward to the mouth of the St. Croix River. DPS salmon taken for hatchery rearing for broodstock purposes and any captive progeny from these salmon are also included as part of the DPS. These hatchery-held fish, however, do not count toward delisting or reclassification goals as these goals refer to the status of naturally-spawned salmon in the wild.

At the time of listing, there were at least eight rivers in the geographic range of the GOM DPS known to still support wild Atlantic salmon populations: the Dennys, East Machias, Machias, Pleasant, Narraguagus, Ducktrap and Sheepscot Rivers, and Cove Brook. At the time of listing, the Services deferred a decision whether the DPS range included the mainstem of the Penobscot River and its tributaries above the former site of the Bangor Dam. Presently a status review is underway to determine the relationship of large river systems (e.g., the Penobscot and Kennebec Rivers) to the DPS as currently delineated. This review will also determine the status of current salmon populations within these large river systems, as well as any other additional salmon populations present outside the geographic range of the DPS. Decisions regarding the status of these populations may have significant implications for the recovery strategy and recovery criteria. The Services will consider the implications of these decisions and, if necessary, amend or modify the recovery plan accordingly.

The GOM DPS has declined to critically low levels. Adult returns, and estimates of juvenile abundance and survival have continued to decline since the listing. In 2004, total adult returns to the eight rivers still supporting wild Atlantic salmon populations within the DPS were estimated to range from 60 to 113 individuals. Therefore, while full recovery will encompass the full range of the DPS from the Kennebec to the St. Croix River, the initial focus of the recovery program is to stabilize populations in the eight populations in the DPS that were extant at the time of the listing

The recovery plan contains a synopsis of the biology and distribution of Atlantic salmon, a description of factors affecting species recovery, an outline of actions needed to recover the species, and an implementation schedule for completing the recovery tasks. The recovery plan, prepared with the assistance of the Maine Atlantic Salmon Commission (ASC), provides a framework for addressing a multitude of threats threatening the survival and conservation of the GOM DPS of Atlantic salmon.

The Services published a notice of availability of the draft recovery plan for the GOM DPS of Atlantic salmon in the Federal Register on June 18, 2004 (69 FR 34184). The Services distributed the draft recovery plan for public review and comment. During the 90-day public comment period, the Services held two formal public hearings, as well as numerous meetings and briefings with Federal, state, local and private stakeholders to discuss the recovery plan and solicit comments.

The Services received comments from a wide range of stakeholders and interested parties including state, Federal and local government agencies; local stakeholder groups; non-governmental organizations; industry groups; and private citizens. The comments received ranged from endorsements of the plan to disagreement with specific as well as general elements contained in the plan. Many of the comments received provided technical corrections and additional information that the Services' considered and applied as appropriate in preparing the final recovery plan.

The Maine ASC coordinated the review of the draft plan by state agencies. The state agencies involved in the plan review were the Maine ASC, Maine Department of Marine Resources (DMR), Maine Department of Inland Fisheries and Wildlife (IFW), Maine Department of Environmental Protection (DEP), Maine Department of Agriculture, Food, and Rural Resources (DAFRR), Maine Bureau of Pesticide Control (BPC), Maine Department of Conservation (DOC), Maine Bureau of Parks and Lands (BPL), Maine Forest Service (MFS), Maine Geological Service (MGS), Maine Department of Transportation (DOT), and Maine State Planning Office (SPO).

In addition to public review, the recovery plan underwent peer-review. The Services and the State identified and contacted 27 peer reviewers with specific technical and other relevant expertise, requesting review and comment on the draft recovery plan. These individuals were asked to review relevant sections of the plan for technical accuracy and completeness. The peer-reviewers were also asked to identify any specific issues or information that the Services should consider in the preparation of a final recovery plan. The Services received eight responses from the individuals contacted.

In conjunction with efforts to prepare a final recovery plan, the Services and the Maine ASC conducted a 2-day Threats Assessment Workshop in December 2004. The Services assembled a team of technical experts from Maine ASC, NOAA Fisheries and USFWS to conduct a structured threats analysis to evaluate the geographic extent and life stage affected by threats, and the severity of these effects. During this workshop, the Services and workshop participants reviewed and considered the recommendations of the National Research Council's (NRC) (2004) report on Atlantic Salmon in Maine, as well as relevant public and peer review comments received during the comment period. The workshop resulted in the following threats being identified in the final recovery plan as high priority for action to reverse the decline of Atlantic salmon populations in the GOM DPS: (1) Acidified water and associated aluminum toxicity which decrease juvenile survival; (2) aquaculture practices, which pose ecological and genetic risks; (3) avian Predation; (4) changing land use patterns (e.g., development, agriculture, forestry); (5) climate change; (6) depleted diadromous fish communities; (7) incidental capture of adults and parr by recreational fishermen; (8) introduced fish species that compete or prey on Atlantic salmon; (9) low marine survival; (10) poaching of adults in DPS rivers; (11) recovery hatchery program (potential for artificial selection/domestication); (12) sedimentation; and (13) water extraction.

The public and peer review comments received during the public comment period have been fully considered in the preparation of this recovery plan. In response to comments received, the Services have made revisions to the draft plan as appropriate. In addition, the Services have reviewed and considered the recommendations of the 2004 NRC report on Atlantic Salmon in Maine and incorporated the recommendations as appropriate.

Comments and Responses

The majority of the comments received on the draft recovery plan were editorial and were incorporated as received. More substantive comments and responses to these comments are summarized below.

Threats Assessment

Comment 1: A number of comments were submitted questioning the relationship between the threats assessment and the text related to those identified threats and/or their priorities in the implementation table. It was suggested that better documentation of the risk assessment method used to identify the top threats would be instructive for the reader. Others commented that some of the threats were more applicable to some watersheds and not to others. Finally, some questioned the estimates of costs in the Implementation Schedule and the State of Maine suggested that they could assist the Federal Services, with the assistance of the Recovery Team, to refine these estimates.

Response: A workshop was held with state and Federal agency experts to conduct a threats assessment. The purpose of this workshop was to address the concerns submitted by the public with the goal of expanding the section of the recovery plan to include an explanation of the process utilized and factors considered in conducting the threats assessment. Another goal was to attempt to link the threats assessment to the implementation schedule and to ensure consistency in addressing threats throughout the body of the recovery plan. The final plan includes a revised threat assessment that was the product of the workshop mentioned above.

Water Use

Comment 2: Some comments recommended that the plan take a broader approach to addressing water use related to hydrologic manipulation of river flow. Others stated that the terms “excessive or unregulated withdrawals” were not accurate or instructive and stated that the Plan did not adequately acknowledge the existing state regulatory programs that are in place to guard against threats to habitat due to water withdrawal. It was suggested that too much emphasis was placed on water withdrawal in the plan and that the plan should focus on a solution-based approach as agreed to by private and public, state and Federal partners in the Downeast Rivers Water Use Management Plan (WUMP) developed under the State Atlantic Salmon Conservation Plan instead of focusing on water-use permitting.

The Downeast Salmon Federation (DSF) commented that the draft plan should specifically state that the Water Use Management Plan (WUMP) is not comprehensive enough to truly deserve the name, and that a reader of the recovery plan unfamiliar with the WUMP might conclude that these “plans” address cumulative as well as individual withdrawals. DSF commented that the WUMP actually addresses only those withdrawals made by the larger industry users and does not do a thorough or precautionary job of planning or managing water use in these watersheds. Lastly, DSF commented that the documents referred to as the WUMP provide a basis from which to move forward, but are lacking in addressing the impact of the full range of irrigators within these watersheds.

Response: The Recovery Plan endorses the implementation of the WUMP as an important recovery action for the DPS. The Services agree with the comment that the practical threat of water use is much less today than it was in 1995 when the State Conservation Plan was being developed. As explained in the draft recovery plan, the WUMP is a significant accomplishment and provides an excellent foundation as a planning document. In order for it to be effective as a tool for the protection and recovery of Atlantic salmon, however, the WUMP needs to be endorsed by the state regulatory agencies and consistently applied in the State of Maine in both organized and unorganized territories. While voluntary compliance with the WUMP by growers may be reducing the practical threat of water withdrawals to salmon and their habitat today, it does not provide security into the future that this threat will remain reduced.

Forestry

Comment 3: Some comments were submitted concurring with the conclusion in the draft plan that current timber harvesting activities do not represent a significant threat under current management measures and harvest practices. Other commenters questioned the basis for this conclusion. They cited the following potential impacts from forest practices: sedimentation, thermal loading, altering water chemistry, altering hydrology and limiting large woody debris. Other commenters raised concerns that changes in land ownership could lead to increased harvesting and impacts to Atlantic salmon and their habitat. One comment requested that the Services review the state laws that govern forest management and timber harvesting and another comment specifically stated that the State of Maine's Forest Practices Act provides little protection to smaller order streams. In addition, some stated that there was little to no enforcement of existing forest laws and regulations. Some commenters contend that the draft plan does not adequately describe the forestry issue. DSF stated that forestry practices impact watershed productivity particularly when first order streams do not receive adequate protection from cutting activities. These commenters state that these streams receive the least protection under current law and the least emphasis under current conservation easement strategies and as a result these water bodies are experiencing the most abuse and neglect.

Response: In the recovery plan the Services acknowledge that forestry practices can negatively impact Atlantic salmon habitat. Due to state laws and best management practices (BMPs), widespread problems with forestry practices have not been documented. These impacts can occur, however, and in some cases the protective measures currently in place are best management practices that are not regulatory in nature. In general, landowners are required to protect water quality and to utilize best management practices to ensure that water quality is not negatively impacted by harvesting. The BMPs are not prescriptive in nature, however, and instead require what is necessary to achieve the outcome of preventing negative impacts to water quality. Foresters are provided with a range of BMPs and training in those techniques, but the ultimate decision of what specific techniques to apply is left to their discretion in light of the site specific circumstances. We acknowledge that land ownership patterns are changing in Maine and we cannot take for granted the excellent relationship we have had with landowners in the past who have voluntarily adopted protective measures for Atlantic salmon. Efforts to work with new landowners are ongoing and Project SHARE has been very instrumental in this effort. It will be important during implementation of the recovery plan for the Services to continue to work with landowners and the Maine Forest Service to ensure that salmon habitat is not negatively impacted by forestry practices.

Land Acquisition and Riparian Buffers

Comment 4: Some suggested land acquisition and conservation easements should be pursued in areas that are threatened with serious, immediate, development pressure, where the relationship between specific land use changes and habitat degradation is firmly established and where high value habitat is at risk. Others argued that the case for riparian buffer protection is based on the presumed impacts of sedimentation, removal of shade and associated increases in stream temperature, alteration of natural processes that create large woody debris, low dissolved oxygen from nutrient enrichment, runoff of chemical contaminants from agricultural and silvicultural lands. These individuals asserted that there is little evidence that these potential impacts are actually a threat to the GOM DPS.

Response: The available scientific literature provides a strong basis for the need for a riparian buffer zone to prevent adverse impacts to water quality. Purchasing all of the land in the riparian habitat in the Gulf of Maine DPS of Atlantic salmon is not possible and is not necessary for salmon protection and recovery. The major focus of the GOM DPS recovery program is to ensure that buffers are adequate in a particular region to prevent adverse impacts to water quality in that region. For example, if Atlantic salmon in a particular stream is threatened by elevated temperatures, but not threatened by sedimentation, then riparian buffers should be in place to prevent increases in water temperature but necessarily to reduce sedimentation. Our focus is, therefore, on ensuring that regulations and best management practices to protect water quality are fully implemented and evaluated. Where opportunities present themselves, the purchase of land and conservation easements has been and likely will continue to be an important tool in the effort to protect important riparian areas adjacent to salmon habitat.

Aquaculture

Comment 5: Comments were provided stating that the section in the draft plan on aquaculture was outdated and requesting that the final recovery plan acknowledge progress made to address the threat of aquaculture. Other comments identified areas where actions to address the threat from aquaculture needed to be strengthened and specifically cited disease management, the establishment of aquaculture free-zones and bay management planning.

Response: We have updated the section in the recovery plan related to aquaculture. As noted in the comments, the Services have been working with the aquaculture industry and the State of Maine for a number of years to implement measures to minimize the potential for aquaculture practices to negatively impact Atlantic salmon and their habitat. As correctly noted in the comments, significant progress has been made recently to incorporate a number of these protective measures in permit conditions. Aquaculture free-zones have been considered, but not implemented due to the lack of adequate sites sufficiently removed from the Gulf of Maine DPS. Bay management planning is an excellent tool for ensuring that aquaculture practices are well coordinated and that cumulative impacts are identified and assessed. We have included a discussion on bay management in the final recovery plan.

Habitat Quality and Restoration

Comment 6: Comments were submitted stating that the recovery plan needed to identify habitat as a limiting factor to Atlantic salmon throughout Maine and placing habitat restoration as a top priority. One comment stated that poor large parr survival indicated that habitat in the rivers may be marginal and that greater emphasis should be placed on investigating this further. Comments suggested that a greater emphasis needed to be placed on restoring the structure and function of these rivers. Another comment recommended that the size and scale of riparian buffer zones needs to be carefully assessed to determine if they are adequate to meet the needs of Atlantic salmon and the rest of the ecosystem.

Response: The plan does identify habitat quality as a significant threat to the recovery of Atlantic salmon. As explained in the plan, assessment activities have documented significant mortality occurring to large parr during their last winter in the river, and to also smolts are they migrate out of the river. These research findings indicate that there are problems with habitat quality. Research and management efforts are now concentrated on specifically identifying limiting factors in the freshwater, estuarine and marine environments. Examples include assessment of embeddedness and substrate permeability and its relationship to productivity and consideration of a pilot liming study to evaluate the benefits of buffering the river as smolts migrate into saltwater. In addition, the final recovery plan discusses the need to investigate the potential role of diminished habitat complexity in the conservation of the DPS.

Ecosystem Restoration

Comment 7: Comments recommended that the plan needed to go further in incorporating an ecosystem approach to recovering the DPS and should consider rivers as entire systems. One comment stated that non-native species should not be stocked into rivers within the DPS and another recommended pursing the restoration of alewives. Other comments stated that to restore salmon we need to restore the other species with which it co-evolved over the years.

Response: The goal of the Endangered Species Act is to conserve the ecosystems upon which endangered and threatened species depend. The plan acknowledges that recovery of endangered Atlantic salmon depends on recovery of the rivers, estuaries and marine environment. Recovery includes restoration of other diadromous species which provide important benefits to Atlantic salmon including serving as predator buffers and contributing marine derived nutrients to the ecosystem.

Changing Land-Use Patterns

Comment 8: A comment recommended that changing land-use patterns (i.e., development and sprawl) needs to be addressed more thoroughly in the plan. It was also suggested that habitat protection needs to be guided by an ecosystem management approach that looks at what is happening across the landscape. One comment stated that if the long term effects of historical land-use and impacts from current land-use are not addressed rapidly and aggressively we will not see the restoration of self-sustaining Atlantic salmon populations in Maine.

Response: The recovery plan focuses on threats to Atlantic salmon habitat so the impacts of changing land-use patterns are addressed in a variety of sections. As noted in the comment, development can impact Atlantic salmon habitat by contributing sediments, chemicals and nutrients and increasing water temperature. Land-use changes will continue to be monitored during implementation of the recovery plan with a focus on how those changes increase impacts to salmon habitat.

Stakeholder and Community Involvement

Comment 9: Comments stated that the plan does not identify many areas where non-agency organizations and stakeholders are involved and recommended that the plan identify more ways to include stakeholders and the local knowledge that these individuals and groups possess. Another comment stated that the Watershed Councils are essential for salmon recovery and must have the backing of state and Federal agencies involved in salmon restoration. It further suggested that the “Implementation Schedule” should include funding to support the full time staff needed to keep the Watershed Councils functioning as an effective component of salmon restoration efforts.

Response: The recovery plan acknowledges the critical role that local citizens and organizations have and will continue to play in recovery of Atlantic salmon. These individuals serve as the eyes and ears in these watersheds and are frequently the first to identify specific habitat problems that need to be addressed and opportunities for habitat enhancement. The implementation schedule identifies the actions at the local level and the funding estimated to be necessary to carry out those activities. Included in these estimates are the personnel resources needed to carry out these tasks.

Hatcheries

Comment 10: A number of comments were submitted on the existing hatchery program. One comment suggested that the plan identify the need to assess whether hatchery-reared fish, which are essentially land-locked, are capable of transitioning to saltwater water. Another comment suggested that there should not be a “broodstock retirement” program as currently exists and that instead these brood fish should be producing progeny for other rivers to establish experimental populations. It was suggested that stocking of additional streams might provide a surprising result in terms of a few returning adults and perhaps a catch and release fishery at some point in the future which could go a long way toward rebuilding popular support for the recovery program as a whole.

Response: The recovery plan supports the recommendation from the 2004 NRC report that the hatchery program should be reviewed. The issues identified above, including the source of the fish taken into the hatchery, the use of spent broodstock, life stage to be stocked, and evaluation of hatchery products should all be included in a review as recommended in the final recovery plan. The recovery plan also includes a recommendation to evaluate additional stocking in other rivers within the DPS.

West Greenland Fishery

Comment 11: A comment suggested that the management and establishment of commercial quotas should not be left solely up to NASCO and stated that NASCO failed to follow advice from the International Council for the Exploration of the Sea (ICES) to adopt the zero quota for the WGF in 2001 and 2002. It suggested that the plan recommend a continued suspension of a commercial fishery for Atlantic salmon until such time as rivers within the United States have self-sustaining populations. It further recommended that the recovery plan explicitly support the existing 5-year Greenland Conservation agreement and call for the continued elimination of the West Greenland Fishery as a priority recovery action.

Response: NASCO is the international organization created with the purpose of international coordination and cooperation for Atlantic salmon conservation and management. It is the forum for the Untied States to engage Denmark, on behalf of Greenland, in discussions on management of Atlantic salmon fisheries. The recovery plan identifies the commercial catch of Atlantic salmon off the coast of Greenland as a threat to the recovery of the Gulf of Maine DPS. The model utilized by ICES to provide management advice to NASCO estimates pre-fishery abundance off Greenland and subtracts the spawning escapement needs for all the rivers represented in that mixed stock and then allocates a portion of the remainder to the Greenland fishery. While this, in theory, offers adequate protection to all stocks contributing to the mixed stock off Greenland, some stocks may be disproportionately affected by the fishery. For instance, if Canadian and Northern European stocks recovery more quickly than U.S. and Southern European stocks then the pre-fishery abundance may increase enough to allow for a commercial harvest off Greenland yet the stocks in the southern portion of the range may still be significantly lower than spawning escapement goals. Continued involvement in the international management forum and involvement of conservation organizations is necessary to ensure adequate protection of U.S. stocks.

Penobscot and Other Large Rivers

Comment 12: Several commenters stated that the Recovery Plan does not adequately address the relationship and importance of the Penobscot to the listed rivers. These comments stated that this is a serious omission in the draft recovery plan, and that the recovery plan's failure to adequately recognize the importance of the Penobscot to the listed rivers is a serious omission and needs to be rectified in the final plan. Likewise, the plan needs to look at the role of Maine's other large salmon rivers, particularly those within the geographic range of the DPS, i.e., the Kennebec, Androscoggin and St. Croix rivers, as well as the Saco River.

Response: The recovery plan is for the listed entity the Gulf of Maine DPS of Atlantic salmon that was listed in 2000. At the time of the listing, the mainstem Penobscot River was excluded from the Gulf of Maine DPS due to outstanding data and analysis. The plan properly focuses on the threats to Atlantic salmon and their habitat as listed and identifies actions necessary to avoid or minimize those threats in the future.

Acid Rain

Comment 13: A comment offered support for efforts to mitigate the effects of acid rain on the DPS, but stated that the draft plan does not place adequate emphasis on mitigating the underlying causes of acid rain. The comment recommended that the Services place a high priority on consulting with the EPA on identifying point sources of air pollution contributing to acid rain.

Response: The available information on acid deposition in Maine indicates that, as a result of air pollution regulations, acid deposition is decreasing. The current problems appear to be caused by the removal of buffering capacity in these rivers over time which now allows acid pulses to cause effects to Atlantic salmon. The mitigation effort appears to be necessary to provide buffering capacity until such time as the habitat recovers from the years of significant acid rain deposition and leaching of buffering capacity from the watersheds.

Elevated Water Temperature

Comment 14: A comment stated that the draft recovery plan does not adequately discuss the threat of elevated water temperature.

Response: There is no question in the literature as to the negative effects of high temperature. The best available data seems to show a significant number of days when the temperature goes above the thresholds for feeding and survival. The draft recovery plan identifies elevated water temperature as a threat to Atlantic salmon. As noted in the comment, temperatures have been recorded at levels higher than that preferred and sometimes even tolerable for salmon. The recovery plan also identifies activities that can cause increased water temperature including removal of vegetation in the riparian zone and water withdrawals.

Education

Comment 15: A comment stated that education is an essential component to species or population restoration and will require substantial investment and commitment on the part of all of the players in this recovery. The commenter stated that the recovery plan's implementation schedule lacks funding and commitment for education.

Response: The Recovery Plan states that education and outreach programs are a critical component of successful conservation and recovery plans. The Recovery Plan states that public information and outreach programs help build public support and a strong constituency for Atlantic salmon recovery and conservation in Maine. The Recovery Plan recommends that efforts to increase and improve public awareness of Atlantic salmon conservation should continue through media, educational material, public forums and workshops, demonstration projects and technical assistance. The Recovery Plan notes that virtually all successful conservation programs include education and public outreach programs. Public awareness is important to the success of Atlantic salmon recovery efforts in Maine.

The Recovery Plan states that education and outreach programs inform the general public and interested parties, such as land owners, business and industry, state and local government about the Atlantic salmon recovery process. Education and information campaigns help promote Atlantic salmon as an important national resource and encourage individual and group involvement in the recovery process. The Recovery Plan recommends that a comprehensive and coordinated Education and Outreach Plan for the Gulf of Maine DPS of Atlantic salmon should be developed. This plan should include a strategy to coordinate the efforts of Federal, state and local organizations currently involved in education and outreach programs. The plan should identify target audiences, review existing programs and materials, evaluate the role of public display of Atlantic salmon, identify education and outreach needs, identify responsibilities and costs and develop strategies for dissemination of information and materials.

Governance

Comment 16: A comment suggested that the plan should include a discussion on governance and referenced the 2004 NRC report which also suggested that this issue should be investigated. The comment suggested that the Services should pull language from the 2004 NRC report and the comments received to help create this new section. The DSF suggests a review of the literature on the topic of natural resource “co management” and referenced lobster fisheries co-management in Maine as one example of an alternative and reasonably successful structure that should be reviewed.

Response: The Recovery Plan recommends that Federal and state agencies and local governments should continue to work cooperatively to recover the DPS. Where necessary, interagency communication and coordination should be strengthened. Existing coordination and communication mechanisms between Federal and state agencies and local conservation organizations and other constituency groups should be reviewed and strengthened. The Plan acknowledges that there are many organizations and groups involved in the protection and recovery of Atlantic salmon. Ensuring inter-organizational coordination and communication mechanisms are in place will increase the effectiveness and efficiency of these groups. The implementation schedule in the recovery plan identifies responsible entities for each of the recovery plan actions. There are a number of organizations, agencies, individuals and industries involved in Atlantic salmon protection and recovery as noted in the 2004 NRC report. By assigning responsibility appropriately for carrying out activities, the plan describes roles for each of these groups in recovery implementation. The recovery plan implementation team will also coordinate actions and help reduce the potential for overlap. The Recovery Plan has been revised to include an expanded discussion of the issue of governance as it relates to the recovery of the DPS. The Services agree that the complexity of the multiple state, Federal, local and private groups involved in salmon recovery or related activities presents specific challenges that must be addressed if recovery is to be successful.

River-Specific Recovery Planning

Comment 17: Several comments stated that the recovery plan did not address recovery action at a river-specific scale. These individual state that the plan does not make any attempt to address individual rivers, identify unique threats to salmon in each and describe actions necessary to address each threat. In addition, the comments state that the threats identified in the plan are not the most important in all watersheds.

Response: The Recovery Plan considers threats to the DPS at a river-specific scale and discusses regional differences that exist between various watersheds and regions in Maine. The Recovery Plan identifies site-specific management actions for all the threats the Services have identified under section 4(a)(1) of the ESA five-factor analysis. The Services acknowledge that the Recovery Plan does not present comprehensive river specific recovery strategies for each of the rivers still known to support wild salmon populations. The Services agree that recovery implementation may be further facilitated by the development of watershed or river-specific management plans that would include and highlight those threats and accompanying actions applicable within that particular area. The Recovery Plan acknowledges ongoing recovery implementation activities that are currently responsive to the specific circumstances within individual watersheds (e.g., NPS surveys, nutrient management plans in the Sheepscot, liming project Downeast). Management plans for specific issues of concern have been developed, or are envisioned, for many of the rivers and watersheds within the DPS. For example, the Maine ASC has been working to develop river-specific fisheries management plans for individual DPS rivers. The State of Maine, working in cooperation with multiple public and private partners, has developed a water use management plan (WUMP) for the Narraguagus and Pleasant rivers and for Mopang Stream (a tributary to the Machias River). The WUMP was developed to address a specific issue (i.e., agricultural water use) that was a concern in these three rivers. In a number of instances, local conservation organizations have begun the process of developing river-specific management plans for specific issues.

Pesticides

Comment 18: The Services received a number of comments related to pesticides. Comments provided by the State of Maine questioned the factual basis of statements in the draft plan that drift of hexazinone from aerial applications has been documented. The State stated that it had no documentation of hexazinone drift in its records. The DSF commented that the plan did not adequately present the extent of pesticide use and the threat to the DPS posed by DPS by this activity. The Services received comments that the threat from pesticides warrants consultation between the Services and the EPA on the effects of pesticide registration on the DPS. This commenter stated that pesticides should not be used until this consultation has taken place. Further, these comments stated the view that the recovery plan does not place a high enough priority on measures to control pesticide use. Lastly, the comments stated that no pesticides can be discharged into DPS waters without a CWA, NPDES permit.

Response: The Services have revised the recovery plan based on public comments received. An assessment of the magnitude and severity of the threat posed to the survival and recovery of the DPS by chemical contaminants resulted in the conclusion that pesticides currently are not a high-level threat to the DPS recovery. The recovery plan identifies a number of recovery actions related to continued monitoring of any threat to the DPS related to pesticides. Should water quality or other data indicate that pesticides applied in accordance with approved labeling instructions may be adversely affecting the DPS, the Services will consult with the U.S. Environmental Protection Agency (EPA) to address any potential impact to the DPS.

Implementation of the Plan

NMFS and the FWS are committed to the implementation of the Gulf of Maine DPS of Atlantic salmon Recovery Plan. The recovery plan may be revised in the future on the basis of new information. Public notice and an opportunity for public review and comment would be provided prior to final approval of a revised recovery plan.

Authority

The authority for this action is section 4(f) of the Endangered Species Act (16 U.S.C. 1531 et seq.)

Dated: December 14, 2005.
Angela Somma,
Chief, Endangered Species Division, National Marine Fisheries Service.

Dated: December 2, 2005.
Marvin E. Moriarty,
Regional Director, Region 5 U.S. Fish and Wildlife Service.

[FR Doc. E5-7567 Filed 12-19-05; 8:45 am]

BILLING CODE 3510-22-S